DEPARTMENT OF EDUCATION

[Docket No.: ED-2023-SCC-0036]

Agency Information Collection Activities; Submission to the Office of Management and Budget for Review and Approval; Comment Request; Impact Evaluation To Inform the Teacher and School Leader Incentive Program

AGENCY: Institute of Education Sciences (IES), Department of Education (ED).

ACTION: Notice.

SUMMARY: In accordance with the Paperwork Reduction Act (PRA) of 1995, the Department is proposing an extension without change of a currently approved information collection request (ICR).

DATES: Interested persons are invited to submit comments on or before June 7, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Elizabeth Wilde, 202-245-6122.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation to Inform the Teacher and School Leader Incentive Program.

OMB Control Number: 1850-0950.

Type of Review: An extension without change of a currently approved ICR.

Respondents/Affected Public: State, local, and Tribal governments.

Total Estimated Number of Annual Responses: 1,995.

Total Estimated Number of Annual Burden Hours: 853.

Abstract: Congress mandated that IES conduct an independent evaluation of the Teacher and School Leader Incentive Program (TSL), which supports a variety of strategies aimed at improving the quality of teaching and attracting and retaining effective educators. In response to the legislative mandate to evaluate the TSL program, the first evaluation component addresses the need to understand the characteristics of districts that received TSL grants and the key strategies they are using to improve educator effectiveness and student achievement. The focus of the second evaluation component arises from a need to assess effectiveness, focusing on a single, common strategy of designating teacher leaders to provide coaching to other teachers. This strategy of focusing on a single, common strategy of grantees is part of an evidence-building strategy for the program that complements evidence on other aspects of the grant that have been previously evaluated. More research is needed to provide guidance on whether this teacher leader strategy improves teacher effectiveness and student achievement. The second component of the evaluation uses a random assignment design to study the impacts (and implementation and cost-effectiveness) of the teacher leader role in non-TSL districts.

Dated: May 3, 2023.
Juliana Pearson,
PRA Coordinator, Strategic Collections and Clearance, Governance and Strategy Division, Office of Chief Data Officer, Office of Planning, Evaluation and Policy Development.

[FR Doc. 2023-09750 Filed 5-5-23; 8:45 am]

BILLING CODE 4000-01-P